DEPARTMENT OF COMMERCE

International Trade Administration

[A-570-806]

Notice of Initiation of the Administrative Review of the Antidumping Duty Order on Silicon Metal From the People's Republic of China

AGENCY: Import Administration, International Trade Administration, Department of Commerce.

SUMMARY: The Department of Commerce (the Department) received a timely request to conduct an administrative review of the antidumping duty order on silicon metal from the People's Republic of China (PRC). The anniversary month of this order is June. In accordance with the Department's regulations, we are initiating this administrative review.

DATES: Effective Date: August 6, 2007.

FOR FURTHER INFORMATION CONTACT: Scot Fullerton or Kristina Horgan, AD/CVD Operations, Office 9, Import Administration, International Trade Administration, U.S. Department of Commerce, 14th Street and Constitution Avenue, NW., Washington, DC 20230, telephone: (202) 482-1386 or (202) 482-8173, respectively.

Background

On June 1, 2007, the Department published in the Federal Register its Antidumping or Countervailing Duty Order, Finding, or Suspended Investigation; Opportunity To Request Administrative Review, 72 FR 30542 (Notice of Opportunity). In the Notice of Opportunity, the Department stated “for any party the Department was unable to locate in prior segments, the Department will not accept a request for an administrative review of that party absent new information as to the party's location. Moreover, if the interested party who files a request for review is unable to locate the producer or exporter for which it requested the review, the interested party must provide an explanation of the attempts it made to locate the producer or exporter at the same time it files its request for review, in order for the Secretary to determine if the interested party's attempts were reasonable, pursuant to 19 CFR 351.303(f)(3)(ii).” See Notice of Opportunity, 72 FR at 30543.

The Department received a timely request from Globe Metallurgical Inc. (petitioner) in accordance with 19 CFR 351.213(b)(1) for an administrative review of the antidumping duty order on silicon metal from the PRC. Petitioner requested an administrative review for 18 companies. Therefore, the Department is hereby initiating an administrative review of the antidumping duty order on silicon metal from the PRC for the 18 companies for which the Department has received a request for review.

Initiation

In accordance with section 751(a)(1) of the Tariff Act of 1930, as amended (the Act), we are initiating an administrative review of the antidumping duty order on silicon metal from the PRC (i.e., silicon metal originating in the PRC). We intend to issue the final results of this review on approximately June 30, 2008.

Antidumping duty proceeding | Period to be reviewed
PRC: ¹ ² | June 1, 2007 through May 31, 2007.
Alloychem Impex Corp
Bomet (Canada) Inc
Carbonsi Metallurgical Inc
Chemical and Alloy Inc
Coldstone Metals Inc
Crown All Corporation
Ferro-Alliages & Mineraux Inc
Gather Hope International Co. Ltd
GE Silicones (Canada)
Global Minerals (Canada)
Global Minerals Corp
Hunan Provincial Import and Export Group Corp
IMMECC Resources Inc
Jiangxi Gangyuan Silicon Industry Co., Ltd
Lorbec Metals Ltd
MPM Silicones, LLC
Seaview Trading
Transtrading House Ltd
¹ If one of the below-named companies does not qualify for a separate rate, all other exporters of silicon metal from PRC that have not qualified for a separate rate are deemed to be covered by this review as part of the single PRC entity of which the named exporter is a part.
² Some companies may appear to be listed twice, but there are two addresses provided in the administrative review requests for similar named companies and, therefore, we are listing them separately.

Interested parties must submit applications for disclosure under administrative protective orders in accordance with 19 CFR 351.305. Instructions for filing such applications may be found on the Department's Web site at http://www.trade.gov/ia/.

This initiation and notice are in accordance with section 751(a)(1) of the Act and 19 CFR 351.221(c)(1)(i).

Dated: July 31, 2007.
James C. Doyle,
Office Director, AD/CVD Operations, Office 9.

[FR Doc. E7-15203 Filed 8-3-07; 8:45 am]

BILLING CODE 3510-DS-P